DEPARTMENT OF TRANSPORTATION

Federal Aviation Administration

14 CFR Part 39

[Docket No. FAA-2007-29170; Directorate Identifier 2007-NM-075-AD; Amendment 39-15345; AD 2008-02-15]

RIN 2120-AA64

Airworthiness Directives; Airbus Model A319 and A320 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Some taperlocks used in the wing-to-fuselage junction at rib 1 were found to be non-compliant with the applicable specification, resulting in a loss of pre-tension in the fasteners. In such conditions, the structural integrity of the aircraft could be affected.

We are issuing this AD to require actions to correct the unsafe condition on these products.

DATES: This AD becomes effective February 28, 2008.

The Director of the Federal Register approved the incorporation by reference of certain publications listed in this AD as of February 28, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on September 13, 2007 (72 FR 52309). That NPRM proposed to correct an unsafe condition for the specified products. The MCAI states:

Some taperlocks used in the wing-to-fuselage junction at rib 1 were found to be non-compliant with the applicable specification, resulting in a loss of pre-tension in the fasteners. In such conditions, the structural integrity of the aircraft could be affected.

This Airworthiness Directive mandates a repetitive internal inspection of the lower stiffeners, and a repetitive external inspection of the lower panels in center and outer wing box at level of rib 1 junction.

The corrective action includes contacting Airbus for repair instructions and repair if any crack is found. You may obtain further information by examining the MCAI in the AD docket.

Comments

We gave the public the opportunity to participate in developing this AD. We considered the comments received.

Request To Refer to Revised Service Information

The Air Transport Association (ATA), on behalf of one of its members, United Airlines, and Airbus ask that we refer to Airbus Service Bulletins A320-57-1129 and A320-57-1130, both Revision 02, both dated July 17, 2007, for accomplishing the specified actions.

We agree with the requests to refer to Revision 02 of Airbus Service Bulletins A320-57-1129 and A320-57-1130. In the NPRM, we referred to Airbus Service Bulletins A320-57-1129, and A320-57-1130, both Revision 01, both dated July 28, 2006, as the appropriate sources of service information for accomplishing the required actions. Revision 02 of the service bulletins updates the operator and aircraft effectivity to show the latest information. No additional work is required by these revisions of the service bulletins. We have changed paragraphs (f)(1) and (f)(2) of this AD to refer to Revision 02 of the service bulletins. We have also changed paragraphs (f)(1) and (f)(2) to give credit to operators that have done the actions previously in accordance with Revision 01 of the service bulletins. We have also revised the sentence giving credit for an earlier service bulletin in paragraph (f)(2) of this AD for clarity.

Request To Allow Installation of a Pin and Sleeve Fastener

ATA, on behalf of one of its members, Northwest Airlines (NWA), states that installation of a pin-and-sleeve fastener, instead of the taperlok fastener, should be allowed due to the practical difficulties in accomplishing the NPRM as currently written. NWA notes that installation of the taperlok fasteners requires precision drilling and reaming of the tapered hole and countersink, and adds that industry data show that the installation of a MIL-B-85667 pin-and-sleeve fastener can be installed by conventional manual drilling and reaming of a standard hole with relative simplicity and still maintain the fatigue strength capability of the taperlok fastener. NWA adds that the fastener capability properties of the MIL-B-85667 pin-and-sleeve fastener (titanium tapered pin and aluminum sleeve) meet or exceed those of the Airbus taperlok fasteners for tensile, shear, and fatigue strength. NWA provided a table that identifies the fastener properties.

We do not agree with the commenters' request. The commenters have not provided sufficient data to demonstrate that this installation would adequately address the identified unsafe condition. Although the MIL-B-85667 pin-and-sleeve fastener material properties may be equal to or better than the taperlok fasteners, there are other considerations in selection of fasteners that must be addressed, in addition to proper drilling and reaming of the tapered hole and countersink. Therefore, we have not changed the AD in this regard. However, any operator may request an alternative method of compliance (AMOC) in accordance with the procedures in paragraph (g) of the AD, provided that sufficient data are submitted to substantiate that the proposed AMOC would provide an acceptable level of safety.

Conclusion

We reviewed the available data, including the comments received, and determined that air safety and the public interest require adopting the AD with the change described previously. This change will neither increase the economic burden on any operator nor increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 583 products of U.S. registry. We also estimate that it would take about between 16 and 77 work-hours per product to comply with the basic requirements of this AD. The average labor rate is $80 per work-hour. Based on these figures, we estimate the cost of the AD on U.S. operators to be between $746,240 and $3,591,280, or between $1,280 and $6,160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-02-15 Airbus: Amendment 39-15345. Docket No. FAA-2007-29170; Directorate Identifier 2007-NM-075-AD.

Effective Date

(a) This airworthiness directive (AD) becomes effective February 28, 2008.

Affected ADs

(b) None.

Applicability

(c) This AD applies to Airbus Model A319 and A320 series airplanes, certificated in any category, all certified models, all serial numbers (MSN); except airplanes identified in paragraphs (c)(1) and (c)(2) of this AD. Model A320 series airplanes MSN 2164 through MSN 2688 that have partially received Airbus Modification 33421 in production are affected by the requirements of this AD.

(1) Model A319 series airplanes that have received Airbus Modifications 28238, 28162, and 28342 in production, or Airbus Modification 33421 in production.

(2) Model A320 series airplanes that have received Airbus Modification 33421 fully embodied in production.

Subject

(d) Air Transport Association (ATA) of America Code 57: Wings.

Reason

(e) The mandatory continuing airworthiness information (MCAI) states:

Some taperlocks used in the wing-to-fuselage junction at rib 1 were found to be non-compliant with the applicable specification, resulting in a loss of pre-tension in the fasteners. In such conditions, the structural integrity of the aircraft could be affected.

This Airworthiness Directive mandates a repetitive internal inspection of the lower stiffeners, and a repetitive external inspection of the lower panels in center and outer wing box at level of rib 1 junction.

The corrective action includes contacting Airbus for repair instructions and repair if any crack is found.

Actions and Compliance

(f) Unless already done, do the following actions.

(1) For A320-200 aircraft: Before the defined threshold or within the defined grace period after the effective date of this AD, whichever occurs later, as listed in paragraph 1.E., “Compliance,” of Airbus Service Bulletin A320-57-1129, Revision 02, dated July 17, 2007, and following the instructions given in the service bulletin, perform an internal ultrasonic inspection of the lower stiffeners in the center and outer wing box at the level of the rib 1 junction to detect cracks, and if any crack is found, before further flight contact Airbus for repair instructions and repair. Repeat this inspection at the intervals defined in paragraph 1.E., “Compliance,” of the service bulletin. Actions done before the effective date of this AD in accordance with Airbus Service Bulletin A320-57-1129, Revision 01, dated July 28, 2006, are acceptable for compliance with the corresponding actions of this paragraph.

(2) For all aircraft: Before the defined threshold or within the defined grace period after the effective date of this AD, whichever occurs later, as listed in paragraph 1.E., “Compliance,” of Airbus Service Bulletin A320-57-1130, Revision 02, dated July 17, 2007, and following the instructions given in the service bulletin, perform an external ultrasonic inspection of the lower stiffeners in the center and outer wing box at the level of the rib 1 junction to detect cracks, and if any crack is found, before further flight contact Airbus for repair instructions and repair. Repeat this inspection at the intervals defined in paragraph 1.E., “Compliance,” of the service bulletin. Actions done before the effective date of this AD in accordance with Airbus Service Bulletin A320-57-1130, dated September 10, 2004; or Revision 01, dated July 28, 2006; are acceptable for compliance with the corresponding actions of this paragraph.

(3) Modification of the aircraft in accordance with the instructions contained in Airbus Service Bulletins A320-57-1131, A320-57-1137, or A320-57-1140, all dated November 21, 2006; terminates the repetitive inspection requirements of this AD.

FAA AD Differences

Note: This AD differs from the MCAI and/or service information as follows:

(1) Although the MCAI or service information does not specify a compliance time for corrective action (repair of cracks), paragraphs (f)(1) and (f)(2) of this AD require that the corrective action be done before further flight.

(2) Although the MCAI and/or service information specify a compliance time for accomplishing the inspections after the effective date of the MCAI, this AD requires compliance within the specified compliance time after the effective date of this AD.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tim Dulin, Aerospace Engineer, International Branch, ANM-116, FAA, Transport Airplane Directorate, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0067R1, dated June 7, 2007; and Airbus Service Bulletins A320-57-1129 and A320-57-1130, both Revision 02, both dated July 17, 2007; for related information.

Material Incorporated by Reference

(i) You must use the Airbus service information specified in Table 1 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Airbus service bulletin | Revision | Date
A320-57-1129, including Appendix 01 | 02 | July 17, 2007.
A320-57-1130, including Appendix 01 | 02 | July 17, 2007.
A320-57-1131, including Appendix 01 and excluding Appendix 02 | Original | November 21, 2006.
A320-57-1137, including Appendix 01 and excluding Appendix 02 | Original | November 21, 2006.
A320-57-1140, including Appendix 01 and excluding Appendix 02 | Original | November 21, 2006.

Issued in Renton, Washington, on January 14, 2008.
Stephen P. Boyd,
Assistant Manager, Transport Airplane Directorate, Aircraft Certification Service.

[FR Doc. E8-970 Filed 1-23-08; 8:45 am]

BILLING CODE 4910-13-P